DEPARTMENT OF THE INTERIOR

Bureau of Land Management

[BLM_CO_FRN_MO4500171130]

Notice of Southwest Colorado Resource Advisory Council Public Meetings

AGENCY: Bureau of Land Management, Interior.

ACTION: Notice of public meetings.

SUMMARY: In accordance with the Federal Land Policy and Management Act of 1976 and the Federal Advisory Committee Act of 1972, the U.S. Department of the Interior, Bureau of Land Management (BLM) Colorado's Southwest Resource Advisory Council (RAC) will hold three public meetings in 2023 and early 2024.

DATES: The Southwest Colorado RAC will meet as follows:

• The RAC will host a field tour on June 14, 2023, at 8:30 a.m. Mountain Time (MT), and an in-person meeting on June 15, 2023, from 10 a.m. to 3:30 p.m. MT.

• The RAC will host a field tour on October 10, 2023, at 8:30 a.m. MT, and an in-person meeting on October 11, 2023, from 10 a.m. to 3:30 p.m. MT.

• The RAC will host a field tour on February 6, 2024, at 8:30 a.m. MT, and an in-person meeting on February 7, 2024, from 10 a.m. to 3:30 p.m. MT.

All meetings will also have a virtual participation option.

ADDRESSES:

• The June 14, 2023, field tour will commence at the Uncompahgre Field Office, 2465 S. Townsend Ave., Montrose, CO 81401. Attendees will travel to the Gunnison Forks Day Use Area boat ramp for a float trip in Gunnison Gorge National Conservation Area. The field tour will conclude at the Orchard Boat Ramp. The June 15 meeting will be held at the Uncompahgre Field Office.

• The October 10, 2023, field tour will commence and conclude at 1428 Greene Street, Suite 101, Silverton, CO 81433. Attendees will travel to view BLM trail systems near the Town of Silverton. The October 11 meeting will be held at the Gunnison Field Office, 2500 E. New York Ave., Gunnison, CO 81230.

• The February 6, 2024, field tour will commence and conclude at the Canyons of the Ancients Visitor Center and Museum, 27501 Highway 184, Dolores, CO 81323. The February 7 meeting will be held at the Tres Rios Field Office, 29211 State Highway CO-184, Dolores, CO 81323.

FOR FURTHER INFORMATION CONTACT: D. Maggie Magee, Public Affairs Specialist; BLM Southwest District Office, 2465 S. Townsend Ave., Montrose, CO 81401; telephone: (970) 240-5323; email: dmagee@blm.gov. Individuals in the United States who are deaf, deafblind, hard of hearing, or have a speech disability may dial 711 (TTY, TDD, or TeleBraille) to access telecommunications relay services for contacting D. Maggie Magee. Individuals outside the United States should use the relay services offered within their country to make international calls to the point-of-contact in the United States.

SUPPLEMENTARY INFORMATION: The 15-member RAC advises the Secretary of the Interior, through the BLM, on a variety of public land issues in the Southwest District, which consists of the Gunnison, Tres Rios, and Uncompahgre field offices.

The RAC will conduct a float trip on the Gunnison River on June 14, 2023, putting in at the Gunnison Forks Day Use Area and taking out at the Orchard Boat Ramp. Planned agenda items for the June 15, 2023, meeting at the Uncompahgre Field Office include field manager updates, the election of a RAC chairperson, and recreation-related discussions.

The RAC will conduct a field tour on October 10, 2023, to view BLM trail systems near the Town of Silverton. Planned agenda items for the October 11, 2023, meeting at the Gunnison Field Office include field manager updates, recommendations by the RAC's Sheep Grazing Subcommittee to the full RAC regarding domestic sheep grazing in bighorn sheep habitat, and further discussion of trail issues identified during the field tour.

Depending on weather conditions, the RAC will conduct a field tour on February 6, 2024, to view feral horses in Canyons of the Ancients National Monument or tour curation facilities at Canyons of the Ancients Visitor Center and Museum. Planned agenda items for the February 7, 2024, meeting at the Tres Rios Field Office include field manager updates and discussions on livestock grazing allotments.

All meetings are open to the public. Participants wishing to attend virtually must register in advance. Registration, participation information, and final agendas will be posted on the RAC web page at https://www.blm.gov/get-involved/resource-advisory-council/near-you/colorado/southwest-rac.

All field tours are open to the public. Group size for field tours may be limited. Members of the public planning to attend field tours must provide their own meals and transportation, including watercraft and shuttles, and must RSVP 1 week in advance to the Southwest District contact listed in the FOR FURTHER INFORMATION CONTACT section of this notice. Please make requests in advance for sign language interpreter services, assistive listening devices, or other reasonable accommodations. We ask that you contact the person listed in the FOR FURTHER INFORMATION CONTACT section of this notice at least seven (7) business days prior to the meeting to give the BLM sufficient time to process your request. All reasonable accommodation requests are managed on a case-by-case basis.

A 30-minute public comment period is scheduled for 2:30 p.m. during each of the meetings. Depending on the number of people who wish to comment during the public comment period, time for individual comments may be limited. Written comments may be submitted in advance to the contact listed in the FOR FURTHER INFORMATION CONTACT section of this notice. Comments received at least 1 week in advance of the meeting will be provided to RAC members prior to the meeting. Please include “RAC Comment” in your submission.

Before including your address, phone number, email address, or other personal identifying information in your comment, you should be aware that your entire comment—including your personal identifying information—may be made publicly available at any time. While you can ask us in your comment to withhold your personal identifying information from public review, we cannot guarantee that we will be able to do so.

Detailed summary minutes of the RAC meetings will be maintained in the Southwest District Office and will be available for public inspection and reproduction during regular business hours within 90 days following the meeting. Minutes and agendas are also available on the RAC's web page.

(Authority: 43 CFR 1784.4-2)

Douglas J. Vilsack,
BLM Colorado State Director.

[FR Doc. 2023-10976 Filed 5-22-23; 8:45 am]

BILLING CODE 4331-16-P